FEDERAL COMMUNICATIONS COMMISSION

Notice of Public Information Collection(s) Being Reviewed by the Federal Communications Commission, Comments Requested

April 22, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Written comments should be submitted on or before June 28, 2002. If you anticipate that you will be submitting comments, but find it difficult to do so within the period of time allowed by this notice, you should advise the contact listed below as soon as possible.

ADDRESSES: Direct all comments to Judith Boley Herman or Leslie Smith, Federal Communications Commission, Room 1-C804 or Room 1-A804, 445 12th Street, SW, Washington, DC 20554 or via the Internet to jboley@fcc.gov or lesmith@fcc.gov.

FOR FURTHER INFORMATION CONTACT: For additional information or copies of the information collection(s), contact Judith Boley Herman at 202-418-0214 or via the Internet at jboley@fcc.gov.

SUPPLEMENTARY INFORMATION: OMB Control No.: 3060-0645.

Title: Part 17—Antenna Registration.

Form No.: N/A.

Type of Review: Extension of a currently approved collection.

Respondents: Business or other for-profit, state, and not-for-profit institutions, and state, local or tribal governments.

Number of Respondents: 25,600.

Estimated Time Per Response: Burden for disclosure—6 minutes; burden for posting—12 minutes; burden for notifications—3 to 15 minutes; burden for reporting requirement—15 minutes.

Frequency of Response: Recordkeeping requirement; third party disclosure requirement, on occasion reporting requirement.

Total Annual Burden: 40,329 hours.

Total Annual Cost: $3,300,000.

Needs and Uses: The requirements in Part 17 are necessary to implement a uniform registration process for owners of antenna structures. The information collection requirements are: (1) Antenna structure owners will be required to provide tenant licensees with a copy of the antenna registration; (2) display the registration number on or around the antenna structure; (3) notification of improperly function of antenna structure lights; and (4) recording of improperly function of antenna structure lights. The information will be used by the Commission during investigations related to air safety or radio frequency interference. A registration number will be issued to identify antenna structure owners in order to enforce Congressionally-mandated provisions related to the antenna structure owner.

OMB Control No.: 3060-0584.

Title: Administration of U.S.-Certified Accounting Authorities in Maritime Mobile and Maritime Mobile-Satellite Radio Services.

Form No.: FCC Forms 44 and 45.

Type of Review: Revision of a currently approved collection.

Respondents: Individuals or households, business or other for-profit.

Number of Respondents: 25 respondents; 50 responses.

Estimated Time Per Response: 3 hours.

Frequency of Response: Annual and semi-annual reporting requirements.

Total Annual Burden: 150 hours.

Total Annual Cost: N/A.

Needs and Uses: Title 47 CFR part 3 established final rules related to the administration of accounting authorities. The rules are required to ensure adherence to international settlement procedures. The collection requirement will provide information necessary to determinate whether an applicant is qualified to act as an accounting authority.

The forms are being revised to include the Federal Communications Commission Registration Number (FRN). The information will be used by the Commission to determine the eligibility of applicants for certification as an accounting authority, to create internal studies of settlement activities and ensure compliance, and to identify accounting authorities to the International Telecommunications Union for disclosure in their List of Ship Stations Report.

OMB Control No.: 3060-0812.

Title: Assessment and Collection of Regulatory Fees.

Form No.: N/A.

Type of Review: Extension of a currently approved collection.

Respondents: Individuals or households, business or other for-profit, state, and not-for-profit institutions.

Number of Respondents: 635,738.

Estimated Time Per Response: .5 hours.

Frequency of Response: Recordkeeping requirement and on occasion reporting requirement.

Total Annual Burden: 63,574 hours.

Total Annual Cost: N/A.

Needs and Uses: The FCC, in accordance with the Telecommunications Act of 1934, as amended, (and by Congress), is required to assess and collect regulatory fees from its licensees and regulatees in order to recover its costs incurred in conducting enforcement, policy and rulemaking, international and user information activities. The purpose for the requirements are to: (1) facilitate the statutory provisions that non-profit entities may be exempt from payment of regulatory fees, and (2) facilitate the FCC's ability to audit regulatory fee payment compliance I the Commercial Mobile Radio Service (CMRS) industry.

In order to develop a Schedule of Regulatory Fees, the FCC must as accurately as possible, estimate the number of payment units and distribute the costs. These estimates must be adjusted to account for any licensees or regulatees that are exempt from payment of regulatory fees. Therefore, the FCC is requiring all licensees and regulatees that claim exemption as a non-profit entity to provide one-time documentation sufficient to establish their non-profit status. Additionally, any newly licensed or operating non-profit entities must submit their documentation of their exempt status within 60 days of receipt of license, authorization, permit, or of commencing operation. Further, the FCC is requesting that it be similarly notified if for any reason that status changes. This documentation will likely take the form of an Internal Revenue Service (IRS) Determination Letter, a state charter indicating non-profit status, proof of church affiliation, et al.

In order to facilitate audits of regulatory fee payments compliance in the CMRS industry, the Commission must require these licensees to submit, upon request, business data they relied upon to calculate the amount of the aggregate regulatory fees owed.

Federal Communications Commission.
Marlene H. Dortch,
Secretary.

[FR Doc. 02-10480 Filed 4-26-02; 8:45 am]

BILLING CODE 6712-01-P